DEPARTMENT OF AGRICULTURE

Farm Service Agency

Commodity Credit Corporation

Information Collection; Noninsured Crop Disaster Assistance Program

AGENCY: Farm Service Agency, Commodity Credit Corporation, USDA.

ACTION: Notice; request for comments.

SUMMARY: In accordance with the Paperwork Reduction Act of 1995, the Farm Service Agency and the Commodity Credit Corporation are requesting comments from all interested individuals and organizations on a revision of a currently approved information collection in support of the Noninsured Crop Disaster Assistance Program (NAP). The information collected is needed from producers to determine eligibility for NAP assistance.

DATES: We will consider comments that we receive by December 15, 2014.

ADDRESSES: We invite you to submit comments on this notice. In your comments, include date, OMB control number, volume, and page number of this issue of the Federal Register. You may submit comments by any of the following methods:

• Federal eRulemaking Portal: Go to/www.regulations.gov. Follow the online instructions for submitting comments.

• Mail: Daniel McGlynn, Acting Division Director, Production, Emergencies, and Compliance Division, Farm Service Agency, USDA, Mail Stop 0517, 1400 Independence Avenue SW., Washington, DC 20250-0517.

You may also send comments to the Desk Officer for Agriculture, Office of Information and Regulatory Affairs, Office of Management and Budget, Washington, DC, 20503.

FOR FURTHER INFORMATION CONTACT: Terry Hill, Section Head, Disaster Assistance Section, Program Policy Branch, (202) 720-3087.

SUPPLEMENTARY INFORMATION:

Description of Information Collection

Title: Noninsured Crop Disaster Assistance Program.

OMB Control Number: 0560-0175.

Type of Request: Revision.

Abstract: NAP is authorized under 7 U.S.C. 7333 and implemented under regulations issued at 7 CFR part 1437. NAP is administered by FSA for CCC and is carried out by FSA State and County committees. The information collected allows FSA to provide assistance under NAP for losses of commercial crops or other agricultural commodities (except livestock) that are produced for food or fiber and for which catastrophic coverage under section 508(b), or additional NAP coverage under sections 508(c) and 508(h) under the Federal Crop Insurance Act (7 U.S.C. 1508) is not available.

NAP coverage is available for crops expressly grown for food (excluding livestock and their by-products); crops planted and grown for livestock consumption; crops grown for fiber (excluding trees grown for wood, paper, or pulp products); aquaculture species crops (including ornamental fish); floriculture; ornamental nursery; Christmas tree crops; turf grass sod; industrial crops; seed crops; and sea grass and sea oats. The information collected is necessary to determine whether a producer and crop or commodity meet applicable conditions for assistance and to determine compliance with existing regulations.

Eligible producers must annually:

(1) Request NAP coverage by completing an application for coverage and paying a service fee by the FSA-established application closing date;

(2) File a report of acreage, inventory, or physical location of the operation, as applicable for the covered crop or commodity; and

(3) Certify harvested production of each covered crop or commodity.

When damage to a covered crop or commodity occurs, which is eligible for NAP, producers must file a notice of loss with the local FSA administrative county office within 15 calendar days of occurrence or 15 calendar days of the date damage to the crop or commodity becomes apparent. Producers must also file an application for payment by the FSA established deadline, and complete a certification of average adjusted gross income and consent for disclosure of tax information with the local FSA County office. The NAP application is also being used to provide a timelier, more accurate, and more reliable delivery of benefits to producers.

FSA is revising a currently approved information collection because the number of producers is expected to increase due to changes to NAP by the Agricultural Act of 2014 (2014 Farm Bill) and additional changes that are under development and will be published in a separate rulemaking.

The 2014 Farm Bill authorizes additional NAP coverage (NAP buy-up coverage) levels ranging from 50 to 65 percent of production at 100 percent of the average market price, and expands NAP coverage to sweet sorghum, biomass sorghum, and industrial crops grown as feedstock for renewable biofuel, renewable electricity, and biobased products. It also expands a waiver of the NAP service fee which was previously available only to limited resource farmers to also include beginning and socially disadvantaged farmers and ranchers.

Based on these changes, FSA is expecting an increase in the annual total number of respondents, and an increase in total burden hours for collection of the information.

The formulas used to calculate the total burden hours is estimated average time per response (includes travel times) hours times total annual responses.

Type of respondents: Producers of commercial crops or other agricultural commodities (except livestock).

Estimated Annual Burden: Public reporting burden for this information collection is estimated to average 1.33 hours per response. The average travel time, which is included in the total annual burden, is estimated to be 1 hour per respondent.

Estimated Annual Number of Respondents: 298,943.

Estimated Annual Number of Reponses Per Respondent: 3.

Estimated Total Annual Responses: 1,565,366.

Estimated Total Annual Burden Hours: 2,036,452.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on October 3, 2014.
Val Dolcini,
Executive Vice President, Commodity Credit Corporation, and Administrator, Farm Service Agency.

[FR Doc. 2014-24535 Filed 10-14-14; 8:45 am]

BILLING CODE 3410-05-P